DEPARTMENT OF COMMERCE

International Trade Administration

[A-583-803]

Light-Walled Welded Rectangular Carbon Steel Tubing From Taiwan: Continuation of Antidumping Duty Order

AGENCY: Enforcement and Compliance, International Trade Administration, Department of Commerce.

SUMMARY: As a result of the determinations by the Department of Commerce (the Department) and the International Trade Commission (ITC) that revocation of the antidumping duty (AD) order on light-walled welded rectangular carbon steel tubing (steel tubing) from Taiwan would likely lead to continuation or recurrence of dumping and material injury to an industry in the United States, the Department is publishing a notice of continuation of the AD order.

DATES: Applicable August 9, 2017.

FOR FURTHER INFORMATION CONTACT: Catherine Cartsos or Minoo Hatten, AD/CVD Operations, Office I, Enforcement and Compliance, International Trade Administration, U.S. Department of Commerce, 1401 Constitution Avenue NW., Washington, DC 20230; telephone: (202) 482-1757 and (202) 482-1690, respectively.

SUPPLEMENTARY INFORMATION:

Background

On March 27, 1989, the Department published the AD order on steel tubing from Taiwan.¹ On January 3, 2017, the Department published the notice of initiation of the fourth sunset review of the AD order on steel tubing ² pursuant to section 751(c) of the Tariff Act of 1930, as amended (the Act). On January 3, 2017, the ITC instituted its review of the AD order on steel tubing from Taiwan.³

¹ Antidumping Duty Order; Light-Walled Welded Rectangular Carbon Steel Tubing from Taiwan, 54 FR 12467 (March 27, 1989).

² See Initiation of Five-Year (“Sunset”) Reviews, 82 FR 84 (January 3, 2017) (Initiation).

³ See Light-Walled Rectangular Pipe and Tube from Taiwan Institution of a Five Year Review, 82 FR 137 (January 3, 2017).

As a result of this sunset review, the Department determined that revocation of the AD order on steel tubing from Taiwan would be likely to lead to continuation or recurrence of dumping and notified the ITC of the magnitude of the margins likely to prevail should the order be revoked.⁴

⁴ See Light-Walled Welded Rectangular Carbon Steel Tubing from Taiwan: Final Results of the Expedited Fourth Sunset Review of the Antidumping Duty Order, 82 FR 21512 (May 9, 2017).

On July 28, 2017, pursuant to sections 751(c) and 752(a) of the Act, the ITC published notice of its determination that revocation of the AD order on steel tubing from Taiwan would be likely to lead to continuation or recurrence of material injury to an industry in the United States within a reasonably foreseeable time.⁵

⁵ See Light-Walled Rectangular Pipe and Tube from Taiwan; Determination 82 FR 35238 (July 28, 2017), and ITC Publication titled Light-Walled Rectangular Pipe and Tube from Taiwan: Investigation No. 731-TA-410 (Fourth Review) (July 2017).

Scope of the Order

The product covered by the order is light-walled welded carbon steel pipe and tube of rectangular (including square) cross-section having a wall thickness of less than 0.156 inch. This merchandise is classified under item number 7306.61.5000 of the Harmonized Tariff Schedule (HTS). It was formerly classified under item number 7306.60.5000. The HTS numbers are provided for convenience and customs purposes only. The written product description remains dispositive.

Continuation of the Order

As a result of the determinations by the Department and the ITC that revocation of the AD order would likely lead to continuation or recurrence of dumping and material injury to an industry in the United States, pursuant to section 751(d)(2) of the Act, the Department hereby orders the continuation of the AD order on steel tubing from Taiwan.

U.S. Customs and Border Protection will continue to collect AD cash deposits at the rates in effect at the time of entry for all imports of subject merchandise. The effective date of continuation of this order will be the date of publication in the Federal Register of this notice of continuation. Pursuant to section 751(c)(2) of the Act, the Department intends to initiate the next five-year review of the order not later than 30 days prior to the fifth anniversary of the effective date of continuation.

This five-year sunset review and this notice are in accordance with section 751(c) of the Act and published pursuant to section 777(i)(1) of the Act, and 19 CFR 351.218(f)(4).

Dated: August 3, 2017.
Carole Showers,
Executive Director, Office of Policy performing the duties of Deputy Assistant Secretary for Enforcement and Compliance.

[FR Doc. 2017-16772 Filed 8-8-17; 8:45 am]

BILLING CODE 3510-DS-P